DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Arizona:
Maricopa (FEMA Docket No.: B-2250). | City of Avondale (21-09-1874P). | The Honorable Kenneth N. Weise, Mayor, City of Avondale, 11465 West Civic Center Drive, Avondale, AZ 85323. | Development & Engineering Services Department, 11465 West Civic Center Drive, Avondale, AZ 85323. | Oct. 14, 2022 | 040038
Maricopa (FEMA Docket No.: B-2272). | City of Goodyear (21-09-1877P). | The Honorable Joe Pizzillo, Mayor, City of Goodyear, 190 North Litchfield Road, Goodyear, AZ 85338. | Engineering and Development Services, 14455 West Van Buren Street, Suite D101, Goodyear, AZ 85338. | Nov. 18, 2022 | 040046
Maricopa (FEMA Docket No.: B-2272). | City of Phoenix (21-09-1437P). | The Honorable Kate Gallego, Mayor, City of Phoenix, City Hall, 200 West Washington Street, Phoenix, AZ 85003. | Street Transportation Department, 200 West Washington Street, 5th Floor, Phoenix, AZ 85003. | Nov. 28, 2022 | 040051
Maricopa (FEMA Docket No.: B-2258). | City of Surprise (22-09-0029P). | The Honorable Skip Hall, Mayor, City of Surprise, 16000 North Civic Center Plaza, Surprise, AZ 85374. | Public Works Department, Engineering Development Services, 16000 North Civic Center Plaza, Surprise, AZ 85374. | Nov. 14, 2022 | 040053
Maricopa (FEMA Docket No.: B-2258). | City of Surprise (22-09-0374P). | The Honorable Skip Hall, Mayor, City of Surprise, 16000 North Civic Center Plaza, Surprise, AZ 85374. | Public Works Department, Engineering Development Services, 16000 North Civic Center Plaza, Surprise, AZ 85374. | Oct. 28, 2022 | 040053
Maricopa (FEMA Docket No.: B-2272). | Unincorporated Areas of Maricopa County (21-09-1437P). | The Honorable Bill Gates, Chair, Board of Supervisors, Maricopa County, 301 West Jefferson Street, 10th Floor, Phoenix, AZ 85003. | Flood Control District of Maricopa County, 2801 West Durango Street, Phoenix, AZ 85009. | Nov. 28, 2022 | 040037
Maricopa (FEMA Docket No.: B-2272). | Unincorporated Areas of Maricopa County (21-09-1877P). | The Honorable Bill Gates, Chair, Board of Supervisors, Maricopa County, 301 West Jefferson Street, 10th Floor, Phoenix, AZ 85003. | Flood Control District of Maricopa County, 2801 West Durango Street, Phoenix, AZ 85009. | Nov. 18, 2022 | 040037
Maricopa (FEMA Docket No.: B-2258). | Unincorporated Areas of Maricopa County (22-09-0374P). | The Honorable Bill Gates, Chair, Board of Supervisors, Maricopa County, 301 West Jefferson Street, 10th Floor, Phoenix, AZ 85003. | Flood Control District of Maricopa County, 2801 West Durango Street, Phoenix, AZ 85009. | Oct. 28, 2022 | 040037
Maricopa (FEMA Docket No.: B-2280). | Unincorporated Areas of Maricopa County (22-09-0553P). | The Honorable Bill Gates, Chair, Board of Supervisors, Maricopa County, 301 West Jefferson Street, 10th Floor, Phoenix, AZ 85003. | Flood Control District of Maricopa County, 2801 West Durango Street, Phoenix, AZ 85009. | Jan. 6, 2023 | 040037
Pima (FEMA Docket No.: B-2280). | Town of Marana (22-09-0373P). | The Honorable Ed Honea, Mayor, Town of Marana, 11555 West Civic Center Drive, Marana, AZ 85653. | Engineering Department, Marana Municipal Complex, 11555 West Civic Center Drive, Marana, AZ 85653. | Jan. 13, 2023 | 040118
Yavapai (FEMA Docket No.: B-2272). | Town of Prescott Valley (21-09-1114P). | The Honorable Kell Palguta, Mayor, Town of Prescott Valley, Civic Center, 7501 East Skoog Boulevard, 4th Floor, Prescott Valley, AZ 86314. | Town Hall, Engineering Division, 7501 East Civic Circle, Prescott Valley, AZ 86314. | Nov. 14, 2022 | 040121
California:
Nevada (FEMA Docket No.: B-2280). | City of Grass Valley (22-09-0608P). | The Honorable Ben Aguilar, Mayor, City of Grass Valley, 125 East Main Street, Grass Valley, CA 95945. | Public Works Department, 125 East Main Street, Grass Valley, CA 95945. | Jan. 12, 2023 | 060211
Placer (FEMA Docket No.: B-2250). | Unincorporated Areas of Placer County (21-09-1181P). | The Honorable Cindy Gustafson, Chair, Board of Supervisors, Placer County, 175 Fulweller Avenue, Auburn, CA 95603. | Placer County Public Works, 3091 County Center Drive, Suite 220, Auburn, CA 95603. | Oct. 17, 2022 | 060239
Placer (FEMA Docket No.: B-2280). | Unincorporated Areas of Placer County (22-09-0128P). | The Honorable Cindy Gustafson, Chair, Board of Supervisors, Placer County, 175 Fulweiler Avenue Suite 206, Auburn, CA 95603. | Placer County Public Works, 3091 County Center Drive, Suite 220, Auburn, CA 95603. | Jan. 9, 2023 | 060239
Riverside (FEMA Docket No.: B-2280). | City of Moreno Valley (22-09-0602P). | The Honorable Yxstian A. Gutierrez, Mayor, City of Moreno Valley, 14177 Frederick Street, Moreno Valley, CA 92552. | Public Works Department, 14177 Frederick Street, Moreno Valley, CA 92552. | Jan. 9, 2023 | 065074
Riverside (FEMA Docket No.: B-2258). | City of San Jacinto (21-09-1682P). | The Honorable Crystal Ruiz, Mayor, City of San Jacinto, 595 South San Jacinto Avenue, San Jacinto, CA 92583. | Tri-Lake Consultants, 24 South D Street Suite 100, Perris, CA 92570. | Nov. 9, 2022 | 065056
Riverside (FEMA Docket No.: B-2258). | Unincorporated Areas of Riverside County (21-09-1682P). | The Honorable Jeff Hewitt, Chair, Board of Supervisors, Riverside County, 4080 Lemon Street, 5th Floor, Riverside, CA 92502. | Riverside County, Flood Control and Water Conservation District, 1995 Market Street, Riverside, CA 92501. | Nov. 9, 2022 | 060245
Riverside (FEMA Docket No.: B-2250). | Unincorporated Areas of Riverside County (22-09-0293P). | The Honorable Jeff Hewitt, Chair, Board of Supervisors, Riverside County, 4080 Lemon Street, 5th Floor, Riverside, CA 92501. | Riverside County, Flood Control and Water Conservation District, 1995 Market Street, Riverside, CA 92501. | Oct. 11, 2022 | 060245
San Bernardino (FEMA Docket No.: B-2280). | City of Fontana (20-09-1006P). | The Honorable Acquanetta Warren, Mayor, City of Fontana, 8353 Sierra Avenue, Fontana, CA 92335. | City Hall, Engineering Department, 8353 Sierra Avenue, San Bernardino, CA 92415. | Dec. 12, 2022 | 060274
San Bernardino (FEMA Docket No.: B-2250). | City of Fontana (21-09-1351P). | The Honorable Acquanetta Warren, Mayor, City of Fontana, 8353 Sierra Avenue, Fontana, CA 92335. | Engineering Department, 17001 Upland Avenue, Fontana, CA 92335. | Oct. 3, 2022 | 060274
San Bernardino (FEMA Docket No.: B-2280). | City of Rialto (20-09-1006P). | The Honorable Deborah Robertson, Mayor, City of Rialto, 150 South Palm Avenue, Rialto, CA 92376. | City Hall, 150 South Palm Avenue, Rialto, CA 92376. | Dec. 12, 2022 | 060280
San Bernardino (FEMA Docket No.: B-2280). | City of San Bernardino (20-09-1006P). | The Honorable John Valdivia, Mayor, City of San Bernardino, 290 North D Street, San Bernardino, CA 92401. | City Hall, 300 North D Street, San Bernardino, CA 92418. | Dec. 12, 2022 | 060281
San Bernardino (FEMA Docket No.: B-2280). | Unincorporated Areas of San Bernardino County (20-09-1006P). | The Honorable Curt Hagman, Chair, Board of Supervisors, San Bernardino County, 385 North Arrowhead Avenue, 5th Floor, San Bernardino, CA 92415. | San Bernardino County Public Works, Water Resources Department, 825 East 3rd Street, San Bernardino, CA 92415. | Dec. 12, 2022 | 060270
San Bernardino (FEMA Docket No.: B-2250). | Unincorporated Areas of San Bernardino County (21-09-1351P). | The Honorable Curt Hagman, Chair, Board of Supervisors, San Bernardino County, 385 North Arrowhead Avenue, 5th Floor, San Bernardino, CA 92415. | San Bernardino County, Public Works, Water Resources Department, 825 East 3rd Street, San Bernardino, CA 92415. | Oct. 3, 2022 | 060270
San Diego (FEMA Docket No.: B-2258). | City of Poway (21-09-1484P). | The Honorable Steve Vaus, Mayor, City of Poway, 13325 Civic Center Drive, Poway, CA 92064. | City Hall, 13325 Civic Center Drive, Poway, CA 92064. | Nov. 4, 2022 | 060702
San Mateo (FEMA Docket No.: B-2272). | City of South San Francisco (21-09-0918P). | The Honorable Mark Nagales, Mayor, City of South San Francisco, 400 Grand Avenue, South San Francisco, CA 94080. | City Hall, 400 Grand Avenue, South San Francisco, CA 94080. | Nov. 17, 2022 | 065062
San Mateo (FEMA Docket No.: B-2272). | Town of Colma (21-09-0918P). | The Honorable Helen Fisicaro, Mayor, Town of Colma, 1198 El Camino Real, Colma, CA 94014. | Town Hall, 1198 El Camino Real, Colma, CA 94014. | Nov. 17, 2022 | 060316
Florida:
St. Johns (FEMA Docket No.: B-2250). | Unincorporated Areas of St. Johns County (22-04-0054P). | Chair Henry Dean, St. Johns County Board of Commissioners, 500 San Sebastian View, St. Augustine, FL 32084. | St. Johns County Permit Center, 4040 Lewis Speedway, St. Augustine, FL 32084. | Sep. 30, 2022 | 125147
Nassau (FEMA Docket No.: B-2280). | Town of Callahan (21-04-4290P). | The Honorable Matthew Davis, Mayor, Town of Callahan, 542300 US Hwy 1, Callahan, FL 32011. | Town Hall, 542300 US Highway 1, Callahan, FL 32011. | Jan. 12, 2023 | 120171
Nassau (FEMA Docket No.: B-2280). | Unincorporated Areas of Nassau County (21-04-4290P). | Chair Jeff Gray, Nassau County Board of Commissioners, 97572 Pirates Point Road, Yulee, FL 32097. | Nassau County Building Department, 96161 Nassau Place, Yulee, FL 32097. | Jan. 12, 2023 | 120170
Hawaii:
Hawaii (FEMA Docket No.: B-2272). | Hawaii County (20-09-1349P). | The Honorable Mitch Roth, Mayor, County of Hawaii, 25 Aupuni Street, Hilo, HI 96720. | Hawaii County Department of Public Works, Engineering Division, 101 Pauahi Street, Suite 7, Hilo, HI 96720. | Nov. 14, 2022 | 155166
Honolulu (FEMA Docket No.: B-2280). | City and County of Honolulu (21-09-0747P). | The Honorable Rick Blangiardi, Mayor, City and County of Honolulu, 530 South King Street Room 300, Honolulu, HI 96813. | Department of Planning and Permitting, 650 South King Street 1st Floor, Honolulu, HI 96813. | Dec. 6, 2022 | 150001
Idaho:
Blaine (FEMA Docket No.: B-2280). | City of Ketchum (22-10-0349P). | The Honorable Neil Bradshaw, Mayor, City of Ketchum, City Hall, P.O. Box 2315, Ketchum, ID 83340. | City Hall, 480 East Avenue North, Ketchum, ID 83340. | Dec. 22, 2022 | 160023
Blaine (FEMA Docket No.: B-2280). | Unincorporated Areas of Blaine County (22-10-0349P). | Chair Dick Fosbury, Blaine County Board of Commissioners, Old County Courthouse, 206 South 1st Avenue, Hailey, ID 83333. | Blaine County Planning & Zoning, 219 1st Avenue South, Suite 208, Hailey, ID 83333. | Dec. 22, 2022 | 165167
Kootenai (FEMA Docket No.: B-2250). | Unincorporated Areas of Kootenai County (21-10-1307P). | Commissioner Chris Fillios, District 2, Kootenai County, 451 Government Way, Coeur d'Alene, ID 83814. | Assessors Department, Kootenai County Court House, 451 Government Way, Coeur d'Alene, ID 83816. | Oct. 7, 2022 | 160076
Illinois:
Cook (FEMA Docket No.: B-2258). | Village of Western Springs (21-05-1260P). | The Honorable Alice Gallagher, Village President, Village of Western Springs, Village Hall, 740 Hillgrove Avenue, Western Springs, IL 60558. | Village Hall, Community Development Department, 740 Hillgrove Avenue, Western Springs, IL 60558. | Oct. 28, 2022 | 170171
Kendall (FEMA Docket No.: B-2295). | Village of Oswego (22-05-1225P). | The Honorable Troy Parlier, Village President, Village of Oswego, 100 Parkers Mill, Oswego, IL 60543. | Village Hall, 100 Parkers Mill, Oswego, IL 60543. | Jan. 13, 2023 | 170345
Will (FEMA Docket No.: B-2272). | City of Lockport (22-05-1296P). | The Honorable Steven Streit, Mayor, City of Lockport, 222 East 9th Street, Lockport, IL 60441. | Public Works and Engineering Department, 17112 South Prime Boulevard, Lockport, IL 60441. | Nov. 18, 2022 | 170703
Will (FEMA Docket No.: B-2272). | Unincorporated Areas of Will County (22-05-1296P). | The Honorable Jennifer Bertino-Tarrant, Will County Executive, Will County Office Building, 302 North Chicago Street, Joliet, IL 60432. | Will County Land Use Department, 58 East Clinton Street, Suite 100, Joliet, IL 60432. | Nov. 18, 2022 | 170695
Will (FEMA Docket No.: B-2258). | Village of Bolingbrook (22-05-1649P). | The Honorable Mary Alexander-Basta, Mayor, Village of Bolingbrook, 375 West Briarcliff Road, Bolingbrook, IL 60440. | Village Hall, 375 West Briarcliff Road, Bolingbrook, IL 60440. | Oct. 24, 2022 | 170812
Indiana:
Morgan (FEMA Docket No.: B-2258). | City of Martinsville (22-05-1449P). | The Honorable Kenneth Costin, Mayor, City of Martinsville, P.O. Box 1415, Martinsville, IN 46151. | City Hall, 59 South Jefferson Street, Martinsville, IN 46151. | Sep. 28, 2022 | 180177
Morgan (FEMA Docket No.: B-2258). | Unincorporated Areas of Morgan County (22-05-1449P). | Commissioner Don Adams, Morgan County Board of Commissioners, 180 South Main Street, Suite 112, Martinsville, IN 46151. | Morgan County Administration Building, 180 South Main Street, Martinsville, IN 46151. | Sep. 28, 2022 | 180176
Steuben (FEMA Docket No.: B-2250). | Town of Hamilton (21-05-2799P). | President Mary Vail, Town of Hamilton, 900 South Wayne Street, Hamilton, IN 46742. | Town Hall, 7750 South Wayne Street, Hamilton, IN 46742. | Sep. 14, 2022 | 180248
Steuben (FEMA Docket No.: B-2250). | Unincorporated Areas of Steuben County (21-05-2799P). | President Wil Howard, Steuben County Board of Commissioners, 317 South Wayne Street, Angola, IN 46703. | Steuben County, Plan Commission Courthouse, 317 South Wayne Street, Angola, IN 46703. | Sep. 14, 2022 | 180243
Kentucky: Scott (FEMA Docket No.: B-2272). | Unincorporated Areas of Scott County (21-04-4848P). | Executive Joe Pat Covington, Scott County, 101 East Main Street, Suite 210, Georgetown, KY 40324. | Georgetown-Scott County Planning Commission, 230 East Main Street, Georgetown, KY 40324. | Nov. 21, 2022 | 210207
Michigan:
Ingham (FEMA Docket No.: B-2258). | Charter Township of Lansing (22-05-1554P). | Supervisor Maggie Sanders, Charter Township of Lansing, 3209 West Michigan Avenue, Lansing, MI 48917. | Township Hall, 3209 West Michigan Avenue, Lansing, MI 48917. | Oct. 27, 2022 | 260632
Ingham (FEMA Docket No.: B-2258). | City of East Lansing (22-05-1554P). | The Honorable Ron Bacon, Mayor, City of East Lansing, 410 Abbot Road, Room 100, East Lansing, MI 48823. | City Hall, 410 Abbott Road, East Lansing, MI 48823. | Oct. 27, 2022 | 260089
Ingham (FEMA Docket No.: B-2258). | City of Lansing (22-05-1554P). | The Honorable Andy Schor, Mayor, City of Lansing, 124 West Michigan Avenue, 9th Floor, Lansing, MI 48933. | City Hall, 124 West Michigan Avenue, Lansing, MI 48933. | Oct. 27, 2022 | 260090
Shiawassee (FEMA Docket No.: B-2250). | City of Owosso (21-05-4550P). | The Honorable Christopher Eveleth, Mayor, City of Owosso, 301 West Main Street, Owosso, MI 48867. | City Hall, 301 West Main Street, Owosso, MI 48867. | Oct. 7, 2022 | 260596
Wayne (FEMA Docket No.: B-2272). | Township of Canton (22-05-0850P). | Supervisor Anne Marie Graham-Hudak, Township of Canton, 1150 Canton Center South, Canton, MI 48188. | Canton Municipal Complex, 1150 South Canton Center Road, Canton, MI 48188. | Nov. 28, 2022 | 260219
Nebraska:
Saline (FEMA Docket No.: B-2258). | City of Crete (20-07-0590P). | The Honorable Dave Bauer, Mayor, City of Crete, 243 East 13th Street, Crete, NE 68333. | City Hall, 241 East 13th Street, Crete, NE 68333. | Oct. 27, 2022 | 310186
Saline (FEMA Docket No.: B-2258). | Unincorporated Areas of Saline County (20-07-0590P). | Commissioner Russ Karpisek, Chair, Saline County, 315 North Shimerda, Wilber, NE 68465. | Saline County Courthouse, 215 South Court Street, Wilber, NE 68465. | Oct. 27, 2022 | 310472
Nevada:
Clark (FEMA Docket No.: B-2258). | City of Henderson (22-09-0379P). | The Honorable Debra March, Mayor, City of Henderson, 240 South Water Street, Henderson, NV 89015. | Public Works Department, 240 South Water Street, Henderson, NV 89015. | Oct. 24, 2022 | 320005
Clark (FEMA Docket No.: B-2280). | City of North Las Vegas (22-09-0330P). | The Honorable John J. Lee, Mayor, City of North Las Vegas, 2250 Las Vegas Boulevard North, North Las Vegas, NV 89030. | Public Works Department, 2250 Las Vegas Boulevard North, Suite 200, North Las Vegas, NV 89030. | Jan. 11, 2023 | 320007
Washoe (FEMA Docket No.: B-2280). | City of Sparks (22-09-0027P). | The Honorable Ed Lawson, Mayor, City of Sparks, 431 Prater Way, Sparks, NV 89431. | City Hall, 431 Prater Way, Sparks, NV 89431. | Dec. 12, 2022 | 320021
Washoe (FEMA Docket No.: B-2280). | Unincorporated Areas of Washoe County (22-09-0027P). | The Honorable Vaughn Hartung, Chair, Board of Commissioners, Washoe County, 1001 East 9th Street, Reno, NV 89512. | Washoe County Administration Building, Department of Public Works, 1001 East 9th Street, Reno, NV 89512. | Dec. 12, 2022 | 320019
New York:
Delaware (FEMA Docket No.: B-2250). | Town of Walton (21-02-0345P). | Supervisor Joseph M. Cetta, Town of Walton, 129 North Street, Walton, NY 13856. | Town Hall, 129 North Street, Walton, NY 13856. | Nov. 3, 2022 | 360215
Delaware (FEMA Docket No.: B-2250). | Village of Walton (21-02-0345P). | The Honorable Edward Snow, Sr., Mayor, Village of Walton, 21 North Street, Walton, NY 13856. | Village Hall, 21 North Street, Walton, NY 13856. | Nov. 3, 2022 | 360216
Erie (FEMA Docket No.: B-2272). | Town of Evans (21-02-0897P). | Supervisor Mary Hosler, Town of Evans Board Members, 8787 Erie Road, Angola, NY 14006. | Town Hall, 8787 Erie Road, Angola, NY 14006. | Jan. 26, 2023 | 360240
Montgomery (FEMA Docket No.: B-2258). | City of Amsterdam (21-02-0893P). | The Honorable Michael Cinquanti, Mayor, City of Amsterdam, 61 Church Street, Amsterdam, NY 12010. | City Hall, 61 Church Street, Amsterdam, NY 12010. | Dec. 1, 2022 | 360440
Montgomery (FEMA Docket No.: B-2258). | Town of Amsterdam (21-02-0893P). | Supervisor Thomas Dimezza, Town of Amsterdam, 283 Manny's Corners Road, Amsterdam, NY 12010. | Office Building, 283 Manny's Corners Road, Amsterdam, NY 12010. | Dec. 1, 2022 | 360441
Montgomery (FEMA Docket No.: B-2258). | Town of Florida (21-02-0893P). | Supervisor Eric Mead, Town of Florida, 214 Fort Hunter Road, Amsterdam, NY 12010. | Office Building, 214 Fort Hunter Road, Amsterdam, NY 12010. | Dec. 1, 2022 | 360445
Montgomery (FEMA Docket No.: B-2258). | Town of Mohawk (21-02-0893P). | Supervisor Ed Bishop, Town of Mohawk, P.O. Box 415, Fonda, NY 12068. | Mohawk Richard A. Papa Office Building, 2-4 Park Street, Fonda, NY 12068. | Dec. 1, 2022 | 360452
Montgomery (FEMA Docket No.: B-2258). | Village of Fort Johnson (21-02-0893P). | The Honorable Michael Simmons, Mayor, Village of Fort Johnson, P.O. Box 179, Fort Johnson, NY 12070. | Fort Johnson Municipal Building, 1 Prospect Street, Fort Johnson, NY 12070. | Dec. 1, 2022 | 360447
Orange (FEMA Docket No.: B-2272). | Village of Harriman (21-02-0938P). | The Honorable Lou Medina, Mayor, Village of Harriman, 1 Church Street, Harriman, NY 10926. | Village Hall, 1 Church Street, Harriman, NY 10926. | Jan. 12, 2023 | 360618
Richmond (FEMA Docket No.: B-2250). | City of New York (21-02-1113P). | The Honorable Eric Adams, Mayor, City of New York, City Hall, New York, NY 10007. | City Department of City Planning, Waterfront Division, 22 Reade Street, New York, NY 10007. | Nov. 17, 2022 | 360497
Westchester (FEMA Docket No.: B-2250). | Town of Mamaroneck (22-02-0217P). | Supervisor Jaine Elkind Eney, Town of Mamaroneck, 740 West Boston Post Road, Mamaroneck, NY 10543. | Town Hall, 740 West Boston Post Road, Mamaroneck, NY 10543. | Dec. 1, 2022 | 360917
Oregon:
Multnomah (FEMA Docket No.: B-2250). | City of Fairview (22-10-0253P). | The Honorable Brian Cooper, Mayor, City of Fairview, 1300 Northeast Village Street, Fairview, OR 97024. | Planning Department, 1300 Northeast Village Street, Fairview, OR 97024. | Oct. 6, 2022 | 410180
Multnomah (FEMA Docket No.: B-2250). | City of Gresham (21-10-1434P). | The Honorable Travis Stovall, Mayor, City of Gresham, 1333 Northwest Eastman Parkway, 3rd Floor, Gresham, OR 97030. | City Hall, 1333 Northwest Eastman Parkway, Gresham, OR 97030. | Sep. 26, 2022 | 410181
South Carolina: Spartanburg (FEMA Docket No.: B-2258). | Unincorporated Areas of Spartanburg County (21-04-4426P). | Chair A. Manning Lynch, Spartanburg County, 366 North Church Street, Main Level, Suite 1000, Spartanburg, SC 29303. | Spartanburg County Administration Building, 366 North Church Street, Spartanburg, SC 29303. | Oct. 3, 2022 | 450176
Texas: Tarrant (FEMA Docket No.: B-2272). | City of North Richland Hills (21-06-2663P). | The Honorable Oscar Trevino, Jr., Mayor, City of North Richland Hills, P.O. Box 820609, North Richland Hills, TX 76182. | City Hall, 4301 City Point Drive, North Richland Hills, TX 76180. | Dec. 15, 2022 | 480607
Washington: Okanogan (FEMA Docket No.: B-2280). | Unincorporated Areas of Okanogan County (22-10-0287P). | Chair Chris Branch, Board of Commissioner District 1, 149 North 3rd Avenue, Okanogan, WA 98840. | Okanogan Planning Department, 123 North 5th Street, Okanogan, WA 98840. | Dec. 16, 2022 | 530117
Wisconsin:
Brown (FEMA Docket No.: B-2280). | Unincorporated Areas of Brown County (22-05-0903P). | Commissioner Patrick Buckley, Brown County, 305 East Walnut Street, Green Bay, WI 54305. | Brown County Zoning Office, 305 East Walnut Street, Green Bay, WI 54301. | Dec. 19, 2022 | 550020
Brown (FEMA Docket No.: B-2280). | Village of Bellevue (21-05-4432P). | President Steve Soukup, Village of Bellevue, 2828 Allouez Avenue, Bellevue, WI 54311. | Village Hall, 2828 Allouez Avenue, Bellevue, WI 54311. | Dec. 15, 2022 | 550627
Brown (FEMA Docket No.: B-2280). | Village of Hobart (22-05-0903P). | President Richard Heidel, Village of Hobart, 2990 South Pine Tree Road, Hobart, WI 54155. | Village Hall, 2990 South Pine Tree Road, Hobart, WI 54155. | Dec. 19, 2022 | 550626
Waukesha (FEMA Docket No.: B-2272). | Village of Summit (21-05-1028P). | President Jack Riley, Village of Summit, 37100 Delafield Road, Summit, WI 53066. | Village Hall, 2911 North Dousman Road, Oconomowoc, WI 53066. | Nov. 28, 2022 | 550663

[FR Doc. 2023-03764 Filed 2-22-23; 8:45 am]

BILLING CODE 9110-12-P